DEPARTMENT OF LABOR

Office of the Secretary

Submission for OMB Review: Comment Request

February 1, 2006.

The Department of Labor (DOL) has submitted the following public information collection request (ICR) to the Office of Management and Budget (OMB) for review and approval in accordance with the Paperwork Reduction Act of 1995 (Pub. L. 104-13, 44 U.S.C. chapter 35). A copy of this ICR, with applicable supporting documentation, may be obtained by contacting Darrin King on 202-693-4129 (this is not a toll-free number) or e-mail: king.darrin@dol.gov.

Comments should be sent to Office of Information and Regulatory Affairs, Attn: OMB Desk Officer for the Employee Benefits Security Administration (EBSA), Office of Management and Budget, Room 10235, Washington, DC 20503, 202-395-7316 (this is not a toll-free number), within 30 days from the date of this publication in the Federal Register.

The OMB is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Agency: Employee Benefits Security Administration.

Type of Review: Extension of currently approved collection.

Title: Disclosures for Participant Directed Individual Account Plans under ERISA section 404(c).

OMB Number: 1210-0090.

Frequency: On occasion.

Type of Response: Third party disclosure.

Affected Public: Business or other for-profit; Not-for-profit institutions; and Individuals or households.

Number of Respondents: 245,000.

Number of Annual Responses: 30,164,000.

Estimated Time Per Respondent: 3.5 hours.

Total Burden Hours: 860,000.

Total Annualized capital/startup costs: $0.

Total Annual Costs (operating/maintaining systems or purchasing services): $33,020,000.

Description: Section 404(c) of the Employee Retirement Income Security Act of 1974 (ERISA) (29 U.S.C. 1104(c)) provides that, if an individual account pension plan permits a participant or beneficiary to exercise control over assets in his or her account and the participant or beneficiary in fact exercises such control (as determined under regulations of the Department of Labor), the participant or beneficiary shall not be deemed to be a fiduciary by such exercise of control and no person otherwise a fiduciary to the plan shall be liable for any loss or breach that results solely from this exercise of control.

The Department of Labor's regulation under section 404(c), codified at 29 CFR 2550.404c-1, describes the circumstances in which a participant or beneficiary in an individual account plan is considered to have exercised control over the assets in his or her individual account so as to relieve a fiduciary to the plan of liability relating to the exercise of control. The regulation specifies the manner in which an individual account pension plan must operate in allowing participants or beneficiaries to allocate individual account assets among available investment alternatives, such that section 404(c) will limit the plan fiduciary's liability for the investment decision. The regulation provides, among other things, that participants and beneficiaries must have adequate information on which to base investment decisions. The regulation specifies the information that a plan must make available before a participant first makes investment decisions; when that information changes, for example when the available investment options under the plan change; and also upon the participant's and beneficiary's request. These information collection provisions are necessary to ensure that participants and beneficiaries are adequately informed about investment alternatives available under the plan, their rights, and the consequences of their investment decisions. Such information is important in assisting participants and beneficiaries in understanding their investment risks and achieving their retirement savings goals.

Ira L. Mills,
Departmental Clearance Officer.

[FR Doc. E6-1826 Filed 2-9-06; 8:45 am]

BILLING CODE 4510-29-P